DEPARTMENT OF THE INTERIOR

Bureau of Land Management

[LLIDC00000.L16100000.DX0000.241A.0; 4500020887]

Notice of Public Meeting, Coeur d'Alene District Resource Advisory Council Meeting; Idaho

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Coeur d'Alene District Resource Advisory Council (RAC) will meet as indicated below.

DATES: June 1, 2011. The meeting will start at 8 a.m. and end no later than 3 p.m. with the public comment period from 1 p.m. to 1:30 p.m. The meeting will be held at the Super 8 Motel, 801 SW. 1st Street, Grangeville, Idaho 83530.

FOR FURTHER INFORMATION CONTACT: Lisa Wagner, RAC Coordinator, BLM Coeur d'Alene District, 3815 Schreiber Way, Coeur d'Alene, Idaho 83815 or telephone at (208) 769-5014.

SUPPLEMENTARY INFORMATION: The 15-member RAC advises the Secretary of the Interior, through the Bureau of Land Management, on a variety of planning and management issues associated with public land management in Idaho. The agenda will include discussions about the Salmon River Working Group and the fuels reduction issue in the Coeur d'Alene District; and information for consideration by the Travel Management Subcommittee established by the Idaho County Commission regarding an alternative site for ATV use based on the Community Corrals, Bug Slope site closure. Additional agenda topics or changes to the agenda will be announced in local press releases. More information is available at http://www.blm.gov/id/st/en/res/resource_advisory.html.

All meetings are open to the public. The public may present written comments to the RAC in advance of or at the meeting. Each formal RAC meeting will also have time allocated for receiving public comments. Depending on the number of persons wishing to comment and time available, the time for individual oral comments may be limited. Individuals who plan to attend and need special assistance, such as sign language interpretation or other reasonable accommodations, should contact the BLM as provided above.

Dated: April 19, 2011.
Gary D. Cooper,
District Manager.

[FR Doc. 2011-10381 Filed 4-28-11; 8:45 am]

BILLING CODE 4310-GG-P